INTERNATIONAL TRADE COMMISSION

[Investigation No. 337-TA-1046]

Certain Non-Volatile Memory Devices and Products Containing Same Commission Determination Not To Review an Initial Determination Granting an Unopposed Motion To Amend the Complaint and Notice of Investigation

AGENCY: U.S. International Trade Commission.

ACTION: Notice.

SUMMARY: Notice is hereby given that the U.S. International Trade Commission has determined not to review an initial determination (“ID”) (Order No. 11) of the presiding administrative law judge (“ALJ”) granting an unopposed motion for leave to amend the complaint and notice of investigation to add Toshiba Memory Corporation of Tokyo, Japan (“Toshiba Memory”) as a respondent to the investigation.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Inv. No. 337-TA-1046 on April 12, 2017, based on a complaint filed by Macronix International Co., Ltd. of Hsin-chu, Taiwan and Macronix America, Inc. of Milpitas, California (collectively, “Macronix”). 82 FR 17687-88 (Apr. 12, 2017). The complaint alleges violations of section 337 of the Tariff Act of 1930, as amended (19 U.S.C. 1337), in the importation into the United States, the sale for importation, and the sale within the United States after importation of certain non-volatile memory devices and products containing the same that infringe one or more claims of U.S. Patent No. 6,552,360; U.S. Patent No. 6,788,602; and U.S. Patent No. 8,035,417. The notice of investigation named the following respondents: Toshiba Corporation of Tokyo, Japan; Toshiba America, Inc. of New York, New York; Toshiba America Electronic Components, Inc. of Irvine, California; Toshiba America Information Systems, Inc. of Irvine, California; and Toshiba Information Equipment (Philippines), Inc. of Binan, Philippines. The Office of Unfair Import Investigations is a party to the investigation.

On May 22, 2017, Macronix moved for leave to amend the complaint and notice of investigation to add Toshiba Memory as a respondent to the investigation and stating that respondents do not oppose the motion. On May 24, 2017, the Commission investigative attorney filed a response in support of the motion. No other responses to the motion were filed.

On June 1, 2017, the ALJ issued the subject ID granting the unopposed motion. The ALJ found that pursuant to Commission Rule 210.14(b) (19 CFR 210.14(b)), good cause exists to amend the complaint and notice of investigation to add Toshiba Memory as a respondent. None of the parties petitioned for review of the ID.

The Commission has determined not to review the ID.

The authority for the Commission's determination is contained in section 337 of the Tariff Act of 1930, as amended (19 U.S.C. 1337), and in Part 210 of the Commission's Rules of Practice and Procedure (19 CFR part 210).

By order of the Commission.
Issued: June 16, 2017.
Lisa R. Barton,
Secretary to the Commission.

[FR Doc. 2017-12922 Filed 6-20-17; 8:45 am]

BILLING CODE 7020-02-P